DEPARTMENT OF ENERGY

Federal Energy Regulatory Commission

[Project Nos. 1855-048, 1892-028 and 1904-076]

TransCanada Hydro Northeast Inc.; Notice of Application Accepted for Filing, Soliciting Comments, Motions To Intervene, and Protests

January 30, 2015.

Take notice that the following hydroelectric application has been filed with the Commission and is available for public inspection:

a. Application Type: Extension of license term for three projects.

b. Project Nos.: 1855-048, 1892-028, and 1904-076.

c. Date Filed: January 16, 2015.

d. Applicant: TransCanada Hydro Northeast Inc.

e. Name of Projects: Bellows Falls, Wilder, and Vernon Hydroelectric Projects.

f. Location: The three projects are located on the Connecticut River in Windham, Windsor and Orange Counties, Vermont, and Cheshire, Sullivan, and Grafton Counties, New Hampshire.

g. Filed Pursuant to: Federal Power Act, 16 U.S.C. 791a-825r.

h. Applicant Contact: John L. Ragonese, FERC License Manager, TransCanada Hydro Northeast Inc., 4 Park Street, Suite 402, Concord, NH 03301, (603) 225-5528.

i. FERC Contact: B. Peter Yarrington, (202) 502-6129 or peter.yarrington@ferc.gov..

j. Deadline for filing comments, motions to intervene, and protests: March 2, 2015

All documents may be filed electronically via the Internet. See, 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, or toll free at 1-866-208-3676, or for TTY, (202) 502-8659. Although the Commission strongly encourages electronic filing, documents may be paper-filed. To paper-file, mail an original and seven copies to: Secretary, Federal Energy Regulatory Commission, 888 First Street NE., Washington, DC 20426. Please include the project numbers (P-1855-048, P-1892-028, and P-1904-076) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: The licensee asks the Commission to extend the term of all three project licenses by one year. Such an extension would move the license expiration dates from April 30, 2018 to April 30, 2019. The licensee says the extensions would enable it to complete relicensing studies delayed by the decommissioning of the Vermont Yankee Nuclear Power Plant and would enable the licensee to review and incorporate study results into each license application before filing applications with the Commission. According to the licensee, the extensions would help maintain the integrity of the Integrated Licensing Process, benefit relicensing participants during the pre-filing stage of relicensing, and avoid amendments to the final license applications.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number of any of the three projects, excluding the last three digits, in the docket number field (example: P-1855) to access the document. You may also register online at http://www.ferc.gov/docs-filing/esubscription.asp to be notified via email of new filings and issuances related to this or other pending projects. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by a proof of service on all persons listed in the service list prepared by the Commission in this proceeding, in accordance with 18 CFR 385.2010.

Kimberly D. Bose,
Secretary.

[FR Doc. 2015-02292 Filed 2-4-15; 8:45 am]

BILLING CODE 6717-01-P